DEPARTMENT OF AGRICULTURE

Animal and Plant Health Inspection Service

[Docket No. APHIS-2014-0054]

Environmental Impact Statement; Introduction of the Products of Biotechnology

AGENCY: Animal and Plant Health Inspection Service, USDA.

ACTION: Notice of intent to prepare an environmental impact statement; extension of comment period.

SUMMARY: We are extending the comment period for our notice of intent to prepare a programmatic environmental impact statement in connection with potential changes to the regulations regarding the importation, interstate movement, and environmental release of certain genetically engineered organisms. This action will allow interested persons additional time to prepare and submit comments.

DATES: The comment period for the notice published on February 5, 2016 (81 FR 6225-6229) is extended. We will consider all comments that we receive on or before April 21, 2016.

ADDRESSES: You may submit comments by either of the following methods:

• Federal eRulemaking Portal: Go to http://www.regulations.gov/#!docketDetail;D=APHIS-2014-0054.

• Postal Mail/Commercial Delivery: Send your comments to Docket No. APHIS-2014-0054, Regulatory Analysis and Development, PPD, APHIS, Station 3A-03.8, 4700 River Road, Unit 118, Riverdale, MD 20737-1238.

Supporting documents and any comments we receive on this docket may be viewed at http://www.regulations.gov/#!docketDetail;D=APHIS-2014-0054 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Sidney W. Abel, Assistant Deputy Administrator, Biotechnology Regulatory Services, APHIS, 4700 River Road, Unit 147, Riverdale, MD 20737-1236; (301) 851-3896.

SUPPLEMENTARY INFORMATION: On February 5, 2016, we published in the Federal Register (81 FR 6225-6229, Docket No. APHIS-2014-0054) a notice stating our decision to complete a programmatic environmental impact statement (EIS) in connection with proposed revisions and amendments to our biotechnology regulations under consideration. These proposed revisions primarily consist of amendments to the regulations pertaining to introductions of certain genetically engineered organisms to address advances in biotechnology and issues raised by stakeholders.

The notice described the range of proposed reasonable alternatives that are currently under consideration for evaluation in the EIS and the issues that will be evaluated in the EIS, and requested public comment to further define the issues and scope of the EIS' alternatives. We also requested public comment to help us identify other environmental issues that should be examined in the EIS.

Comments on the notice were required to be received on or before March 7, 2016. We are extending the comment period on Docket No. APHIS-2014-0054 for an additional 45 days. This action will allow interested persons additional time to prepare and submit comments.

Done in Washington, DC, this 2nd day of March 2016.
Michael C. Gregoire,
Acting Administrator, Animal and Plant Health Inspection Service.

[FR Doc. 2016-04992 Filed 3-4-16; 8:45 am]

BILLING CODE 3410-34-P